DEPARTMENT OF THE INTERIOR

National Park Service

[NPS-WASO-NRNHL-DTS#-27232; PPWOCRADI0, PCU00RP14.R50000]

National Register of Historic Places; Notification of Pending Nominations and Related Actions

AGENCY: National Park Service, Interior.

ACTION: Notice.

SUMMARY: The National Park Service is soliciting comments on the significance of properties nominated before December 22, 2018, for listing or related actions in the National Register of Historic Places.

DATES: Comments should be submitted by February 22, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 22, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALASKA

Anchorage Borough

Kulis Hangar 1, Building 3, 5005 Raspberry Rd., Anchorage, SG100003385

FLORIDA

Broward County

Fort Lauderdale Woman's Club, (Clubhouses of Florida's Woman's Clubs MPS), 20 S Andrews Ave., Fort Lauderdale, MP100003404

Dade County

Richmond Heights Pioneer Historic District, 14520-14960 Monroe St., Miami, SG100003405

Flagler County

Bunnell City Hall (Florida's New Deal Resources MPS), 200 S Church Street, Bunnell, MP100003406

Bunnell Water Tower, 100 Utility St., Bunnell, SG100003407

Gadsden County

Northside High School, (Florida's Historic Black Public Schools MPS), 264 Carver Ave., Havana, MP10000340

Manatee County

Bradenton Woman's Club, (Clubhouses of Florida's Woman's Clubs MPS), 1705 Manatee Ave. W, Bradenton, MP100003409

Orange County

Lake Lawsona Historic District, Bounded by South & Robinson Sts., Summerlin & Hampton Aves., Orlando, SG100003410

Goldman, Siegmund and Marilyn, House, 1670 Huron Trail, Maitland, SG100003411

Sarasota County

Leigh, Charles E, House, 139 S Washington Dr., Sarasota, SG100003412

Umbrella House, 1300 Westway Dr., Sarasota, SG100003417

GEORGIA

Bibb County

Porter, James and Olive, House, 231 Tucker Rd., Macon, SG100003381

IOWA

Muscatine County

Muscatine County Home Dairy Barn, 3210 Harmony Ln., Muscatine, SG100003365

LOUISIANA

Acadia Parish

May, David L. and Jeanette Ross, House, 576 N Western Ave., Crowley, SG100003380

East Baton Rouge Parish

Laurel Street Fire Station, 1801 Laurel St., Baton Rouge, SG100003377

Ouachita Parish

West Monroe Historic District, Parts of Commerce, Cotton, Cypress, Natchitoches, Pine, N. Riverfront, Trenton & Wood Sts., West Monroe, SG100003414

St. Bernard Parish

1939 St. Bernard Parish Courthouse, 1101 W. St. Bernard Hwy., Chalmette, SG100003376

St. Tammany Parish

St. Scholastica Priory and Cemetery, 20264 Terra Mariae Blvd., Covington, SG100003378

Washington Parish

Bogalusa Coca Cola Bottling Plant, 213 Shenandoah St., Bogalusa, SG100003379

NEW JERSEY

Camden County

Building 2, RCA Victor Complex, 201 N. Front St., Camden, SG100003402

Ocean County

Force, Elizabeth Sculthorp, House, 26 Hadley Ave., Toms River Township, SG100003403

NEW YORK

Cortland County

Glenwood Cemetery, 51 S. West St., Homer, SG100003395

Kings County

German Evangelical Lutheran St. John's Church, 195 Maujer St., Brooklyn, SG100003399

Onondaga County

St. Anthony Convent and Convent School, 1024 Court St., Syracuse, SG100003398

Queens County

Triboro Hospital for Tuberculosis, 82-41 Parsons Blvd., Queens, SG100003397

Schenectady County

Yates House, 133 Maple Ave., Schenectady, SG100003396

PENNSYLVANIA

Lancaster County

Locust Grove Archaeological District, Address Restricted, Bainbridge vicinity, SG100003391

RHODE ISLAND

Washington County

Clarke, Samuel, Farm, 106 Lewiston Ave., Richmond, SG100003413

SOUTH CAROLINA

Greenville County

Dunean Mill Historic District, Bounded by Madden, Allen, Whitten & Hutchins Sts., Greenville vicinity, SG100003418

VERMONT

Chittenden County

Stannard House, 3 George St., Burlington, SG100003416

Franklin County

Quincy Hotel, 57 Depot St., Enosburgh, SG100003415

VIRGINIA

Fauquier County

Midland Historic District, Includes parts of Rouges, Midland, Catlett, Dowell, Germantown & Old Carolina Rds., Linden, Chestnut & 2nd Sts., Midland, SG100003392

Salem Independent City

North Broad Street Historic District, 200-500 blks. N Broad St., Salem (Independent City), SG100003393

Valleydale Packers Inc., 710 E 8th St., Salem (Independent City), SG100003394

WISCONSIN

Sheboygan County

Sheboygan Municipal Auditorium and Armory, 516 Broughton Dr., Sheboygan, SG100003364

A request for removal has been made for the following resources:

ARIZONA

Pinal County

Southern Pacific Railroad Depot (Casa Grande, Arizona MPS), 201 W Main St., Casa Grande, OT02000734

Fisher Memorial Home (Casa Grande MRA), 300 E 8th St., Casa Grande, OT85000884

LOUISIANA

Ascension Parish

Tezcuco, S of Burnside on River Rd., Burnside vicinity, OT83000485

Caddo Parish

Sprague Street Houses, 1100-1118 Sprague St., Shreveport, OT83003606

De Soto Parish

Kansas City Southern Depot, Polk St. on Kansas City Southern railroad tracks, Mansfield, OT88003198

East Baton Rouge Parish

Gracelane Plantation House, 14444 Perkins Rd., Baton Rouge, OT97000967

Iberia Parish

Darby Plantation, N of Iberia on Darby Ln., New Iberia vicinity, OT73000868

St. James Parish

Colomb House, NW of Convent on River Rd., Convent vicinity, OT80004250

Longview, LA 44, Lutcher, OT83000537

Tangipahoa Parish

Tangipahoa Parish Training School Dormitory, Off LA 38, Kentwood, OT79001091

Pass Machac Light, W end of Lake Pontchartrain, Ponchatoula vicinity, OT86001554

Winn Parish

St. Maurice Plantation, Off LA 477, St. Maurice, OT79001104

MINNESOTA

Itasca County

Itasca Lumber Company Superintendent's House (Itasca County MRA), 506 5th St., SE, Deer River, OT82002976

Pope County

Minnewaska Hospital (Pope County MRA), Wollan and 5th Sts., Starbuck, OT82003002

Redwood County

Commercial Hotel (Redwood County MRA), Front and Main Sts., Wabasso, OT80002146

Additional documentation has been received for the following resources:

ARIZONA

Pima County

Indian Ridge Historic District, 2648 N Indian Ridge Dr., Tucson, AD10000467

Yavapai County

Joslin and Whipple Historic District, 207 S Arizona Ave., Prescott vicinity, AD00001387

MINNESOTA

Ramsey County

Muskego Church, 2375 Como Ave. W, St. Paul, AD75001013

PENNSYLVANIA

Lancaster County

Locust Grove, S of Bainbridge off PA 441, Bainbridge vicinity, AD77001171

Nomination submitted by Federal Preservation Officer:

The State Historic Preservation Officer reviewed the following nomination and responded to the Federal Preservation Officer within 45 days of receipt of the nomination and supports listing the property in the National Register of Historic Places.

CALIFORNIA

San Bernardino County

Kelso Depot, Restaurant and Employees Hotel (Boundary Increase), Kelso-Cima Rd., Kelso, BC100003401

Authority: Section 60.13 of 36 CFR part 60.

Dated: January 28, 2019.
Christopher Hetzel,
Acting Chief, National Register of Historic Places/National Historic Landmarks Program.

[FR Doc. 2019-01427 Filed 2-6-19; 8:45 am]

BILLING CODE 4312-52-P